INTERNATIONAL TRADE COMMISSION

[USITC SE-08-034]

Government in the Sunshine Act Meeting Notice

Agency Holding the Meeting: United States International Trade Commission.

Time and Date: December 12, 2008 at 11 a.m.

Place: Room 101, 500 E Street, SW., Washington, DC 20436, Telephone: (202) 205-2000.

Status: Open to the public.

Matters to be Considered:

1. Agenda for future meetings: None.

2. Minutes.

3. Ratification List.

4. Inv. Nos. 701-TA-459 and 731-TA-1155 (Preliminary) (Commodity Matchbooks from India)—briefing and vote. (The Commission is currently scheduled to transmit its determinations to the Secretary of Commerce on or before December 15, 2008; Commissioners' opinions are currently scheduled to be transmitted to the Secretary of Commerce on or before December 22, 2008.)

5. Outstanding action jackets: None.

In accordance with Commission policy, subject matter listed above, not disposed of at the scheduled meeting, may be carried over to the agenda of the following meeting.

By order of the Commission.
Issued: December 1, 2008.
William R. Bishop,
Hearings and Meetings Coordinator.

[FR Doc. E8-28796 Filed 12-3-08; 8:45 am]

BILLING CODE 7020-02-P